DEPARTMENT OF HOUSING AND URBAN DEVELOPMENT

[Docket No. FR-4566-N-05]

Notice of Proposed Information Collection: Comment Request Rental Rehabilitation Program

AGENCY: Office of the Assistant Secretary for Community Planning and Development, HUD.

ACTION: Notice.

SUMMARY: The proposed information collection requirement described below will be submitted to the Office of Management and Budget (OMB) for review, as required by the Paperwork Reduction Act. The Department is soliciting public comments on the subject proposal.

DATES: Comments Due Date: June 27, 2000.

ADDRESSES: Interested persons are invited to submit comments regarding this proposal. Comments should refer to the proposal by name and/or OMB Control Number and should be sent to: Reports Liaison Officer, Department of Housing and Urban Development, 451 7th Street, SW, Room 7232, Washington, DC 20410.

FOR FURTHER INFORMATION CONTACT: Franklin Price, (202) 708-2094 Ext. 4572 (this is not a toll-free number) for copies of the proposed forms and other available documents.

SUPPLEMENTARY INFORMATION: The Department is submitting the proposed information collection to OMB for review, as required by the Paperwork Reduction Act of 1995 (44 U.S.C. Chapter 35, as amended).

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Rental Rehabilitation Program Reports.

OMB Control Number, if applicable: 2506-0080.

Description of the need for the information and proposed use: Although the Rental Rehabilitation Program was terminated October 1, 1991, Public Law 98-181 (97 Stat. 1153), Section 17, that originally authorized the Rental Rehabilitation Program still imposes data collection and reporting requirements upon HUD and grantees. The information will be used by HUD to account for program grant funds and to satisfy statutory reporting requirements.

Agency form numbers, if applicable: HUD-440014m HUD-40014-B, HUD-44021, and HUD-40070.

Members of affected public: State and local governments.

Estimation of the total numbers of hours needed to prepare the information collection including number of respondents, frequency of response, and hours of response: Number of respondents—200; frequency of response—HUD-40014, HUD-40014-B, HUD-40021 once per project, and for HUD-40070 once annually per grantee; hours of response—19.5 hours per grantee.

Status of the proposed information collection: Reinstatement, with change, of a previously approved collection for which approval has expired.

Authority: The Paperwork Reduction Act of 1995, 44 U.S.C. Chapter 35, as amended.

Dated: April 21, 2000.
Cardell Cooper,
Assistant Secretary for Community Planning and Development.

[FR Doc. 00-10658 Filed 4-27-00; 8:45 am]

BILLING CODE 4210-29-M